DEPARTMENT OF AGRICULTURE

Forest Service

Klamath National Forest; California: Round Valley Fuels Reduction and Vegetation Management Project

AGENCY: Forest Service, USDA.

ACTION: Notice of intent to prepare an environmental impact statement.

SUMMARY: The Forest Service will prepare an environmental impact statement on a proposal to reduce fuels and manage vegetation on about 18,700 acres on the Klamath National Forest in Northern California. The proposal intends to reduce the fuel hazard that leads to uncontrollable wildfire, improve forage for big game, reduce juniper, enhance aspen, and to promote a diverse and resilient forest.

DATES: Comments concerning the scope of the analysis must be received by March 5, 2007. The draft environmental impact statement is expected in September 2007, and the final environmental impact statement is expected in December 2007.

ADDRESSES: Send written comments to Margaret Boland, Forest Supervisor, C/O Kelly Pavlica, Goosenest Ranger District, 37805 Highway 97, Macdoel, CA 96058. Electronic comments must be submitted in a format such as an e-mail message, plain text (.txt), rich text format (.rtf), or Word (.doc) to comments-pacificsouthwest-klamath-goosenest@fs.fed.us.

FOR FURTHER INFORMATION CONTACT: Emelia Barnum, EIS Team Leader, (530) 398-4391, Ext. 5767, or Kelly Pavlica, EIS Co-Team Leader (530) 398-4391, Ext. 5730.

SUPPLEMENTARY INFORMATION: The project is located on the Goosenest Ranger District of the Klamath National Forest. The project area includes Cedar Mountain and continues south to the community of Tennant, California. The legal location is in Township 45 North, Range 1 East, Sections 23-26, 35, 36; Township 45 North, Range 1 West, Sections 19-21, 27-33; Township 44 North, Range 1 East, Sections 1-3, 10-15, 21-28, 33-35; Township 44 North, Range 1 West, Sections 5, 7, 18, 19-20, 29-30; and Township 43 North, Range 1 East, Sections 2, 3, 10, 11, 14 Mount Diablo Meridian. This project is within Management Areas 10 (Riparian Reserve), 14 (Winter Range), 15 (Partial Retention), and 16 (Forage), as designated by the Klamath National Forest Land and Resource Management Plan (LRMP). The project is also within the boundaries of the federally recognized wildland urban interface (WUI) of the community of Tennant, California. The project also encompasses or is adjacent to other outlying residential areas and private property.

Purpose and Need for Action

The purpose and need for action is as follows:

• To reduce fuels in order to create a defensible space for fire suppression resources and to decrease the potential for detrimental wildfire effects to the overall project area, the community of Tennant, outlying residents, and private property.

• To improve big game habitat by providing a well-distributed, patchy mosaic of big game cover and browse habitat and by reducing the density of roads.

• To reduce the number of juniper trees to produce forage for wildlife and to allow herbaceous plants to grow.

• To promote thrifty, vigorous trees resilient to environmental factors in multiple stages of development.

• To encourage aspen in areas where conifer encroachment is crowding out the species.

The existing condition of the project area (described below) does not meet the desired conditions described in the LRMP.

• Stand replacing wildfires could take place in much of the project area, due to surface fuels, understory vegetation, and dense stand conditions. A potential exists for wildfires to detrimentally affect the community of Tennant, outlying residents, and private property.

• Ponderosa pine stands within the project area are overstocked for the dry site and highly susceptible to insect-induced mortality, disease and stand replacing fires. These stands are both plantations, planted mostly in the 1980s, and stands that were naturally regenerated after turn of the 20th century railroad logging. Currently, natural regeneration is limited in many of these areas due to poor site conditions. Because of this, several stands in the southern portion of the project area are predominately even-aged.

• Mixed-conifer stands on Cedar Mountain are overstocked for the dry site and highly susceptible to insect-induced mortality, disease and stand replacing fires. Regeneration is abundant in the Cedar Mountain area. Many of the larger, older trees in the area are in poor condition due to increased competition for water and nutrients by the encroachment of trees and brush.

• Western juniper has expanded its range, altering site conditions and vegetative structure and composition. Due to the expansion of juniper, available forage for big game has decreased, and the potential for an uncontrollable wildfire to occur has increased.

• Nearly all stands contain a high component of mature to decadent bitterbrush that is in decline. Decadent bitterbrush is less palatable for deer because it produces less leader growth, which is what deer consume as browse. Decadent bitterbrush is more flammable due to the accumulation of dead plant material, and the plants are more susceptible to mortality from wildfire. The younger age class is absent from many of the mature and decadent bitterbrush stands, and is needed for future replacement of browse.

• Aspen stands are being replaced by conifers near Antelope Creek, due to shading and resource competition. Aspen trees require abundant sunlight to thrive. In addition to abundant sunlight, young aspen require protection from browsing in order to establish. Aspen is considered a keystone species that provides biodiversity across the landscape.

Proposed Action

The Klamath National Forest proposes the following actions to move toward LRMP desired conditions (the total acreage proposed for treatment is about 18,700 acres within the 20,100-acre planning area):

Treatments will include the following:

• Prescribed underburning: Approximately 6,440 acres will be underburned in varying intensities to reduce fuels, change future fire behavior, and promote a mosaic of browse age classes and herbaceous seral stages.

• Brush/small tree mowing: Approximately 330 acres will be mowed with light mechanical equipment to lower fuel bed heights and promote a mosaic of browse age classes.

• Defensible space: Along forest roads 45N10 and 43N20, vegetation will be reduced within 150 feet of the road to provide a defensible space for firefighters in the event of a wildfire. Mowing, thinning, and prescribed underburning will be used as needed to create the defensible space. These treatments will primarily target brush and ladder fuels.

• Juniper reduction: Approximately 3,620 acres of juniper reduction is planned throughout the planning area. Where continuous stands of juniper exist, the larger, older trees will be retained as well as patches of juniper to provide wildlife cover and biodiversity.

• Aspen enhancement: Approximately 7 acres of conifers will be removed in order to promote the regeneration of aspen near Antelope Creek. The largest conifers and snags will be retained where safety permits. These acres would not be contiguous but, wherever possible, be placed around openings and locations where aspen is already present.

• Thinning from below: Approximately 8,750 acres in natural stands and 2,520 acres in plantations will be thinned to variable spacing. The goal is to reduce aerial and ladder fuels and tree densities, and to promote and maintain larger, more resilient trees, while retaining beneficial elements to wildlife such as structural diversity. Occasionally, we will culture a large tree with desired characteristics by removing trees around it up to one tree-length in distance. Plantation thinning will include concurrent brush mowing.

• Planting: Across the southern portion of the project area, approximately 10% of the openings will be planted where natural regeneration failed following turn of the twentieth century railroad logging. These sites will be prepared for planting, and ponderosa pine will be planted. This will begin the development of new age classes within ponderosa pine stands where natural regeneration is scarce. Trees planted will be spaced to a width that will reduce the future fire hazard usually associated with dense plantations.

• Bald eagle habitat enhancement: Approximately 135 acres will be identified for bald eagle emphasis. This area will be managed according to the U.S. Fish and Wildlife Service's Pacific Bald Eagle Recovery Plan to promote habitat required by bald eagles for long-term nesting and roosting. The bald eagle is a federally listed Threatened species.

Standard design features, such as protection of heritage sites and no-treatment buffers around caves, will be used. Untreated wildlife areas and variable intensities of treatment will protect resources and provide biodiversity. These non-treatment areas are not included in the above acreage estimates. Forest Service crews, service contracts, stewardship contracts and/or commercial timber sales may implement these actions. All harvesting and mowing activities will be ground-based. Wherever possible, tree tops and limbs will be skidded to the landing to minimize activity-generated slash. Borax will be applied to cut surfaces of stumps 14 inches and greater to prevent development of annosus root disease infection centers.

To facilitate stand access for project activities, a few temporary road spurs will be created or reopened, and several existing unauthorized roads will be used. Approximately 4 miles of new temporary road spurs will be closed and re-vegetated after project implementation. In an effort to bring roads from an unmanaged condition to a managed condition, up to 17 miles of existing unauthorized roads that are needed for travel management and access will be added to Forest System, and about 13 miles of existing roads (both authorized and unauthorized) will be closed.

Roads proposed for closure are: 44N10Y.2, 44.14.3, 44N28.1, 44N92, 22N93.1C, 44N93.1C1, 45N10A, 45N10B, 45N10C, 45N10D, 45N10E, 45N10F, 45N11A.1, 45N21Y.1, 5Q003.1, 5Q003.2, 6Q003.1, and 6Q003.1A. A seasonal closure from January 1 to August 31 is proposed for 45N10 (approximately 3.2 miles north of county road 6Q003 at the existing gate).

Responsible Official

Margaret Boland, Forest Supervisor, Klamath National Forest, 1312 Fairlane Road, Yreka, CA 96097-9549.

Nature of Decision To Be Made

The decision to be made is whether to implement the action as proposed, not to implement the Proposed Action, or to implement an alternative.

Scoping Process

If you have information you feel the Forest Service may not be aware of, or feel you have issues (points of dispute, debate, or disagreement) regarding potential effects of this proposed action, please contact Kelly Pavlica at the Goosenest Ranger District, 37805 Highway 97, Macdoel, CA 96058, (530) 398-4391, within 30 days of publication of this notice. We will use any significant issues that are identified to develop alternatives to the Proposed Action.

All input and comments received during project planning are a matter of public record. Names and addresses of participants are not confidential. If you are interested participating in a field visit to the proposed project area please contact Kelly Pavlica at the number listed above. A field trip with interested participants will be arranged.

Permits or Licenses Required

We are requesting temporary road access to the northern portion of the project area from a private landowner.

Comment Requested

This notice of intent initiates the scoping process which guides the development of the environmental impact statement. For questions about the project, please contact Kelly Pavlica at (530) 398-4391.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: January 23, 2007.
Margaret J. Boland,
Forest Supervisor.

[FR Doc. E7-1606 Filed 1-31-07; 8:45 am]

BILLING CODE 3410-11-P